DEPARTMENT OF AGRICULTURE

Food and Nutrition Service

Agency Information Collection Activities: Proposed Collection; Comment Request—Special Milk Program for Children

AGENCY: Food and Nutrition Service (FNS), USDA.

ACTION: Notice.

SUMMARY: In accordance with the Paperwork Reduction Act of 1995, this notice invites the general public and other public agencies to comment on this information collection. This collection is a revision of a currently approved collection which FNS employs to determine public participation in Special Milk Program for Children.

DATES: Written comments must be received on or before May 21, 2012.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Lynn Rodgers-Kuperman, Branch Chief, Program Analysis and Monitoring, Child Nutrition Division, Food and Nutrition Service, U.S. Department of Agriculture, 3101 Park Center Drive, Room 640, Alexandria, VA 22302. Comments may also be submitted via fax to the attention of Lynn Rodgers-Kuperman at 703-305-2879 or via email to lynn.rodgers@fns.usda.gov. Comments will also be accepted through the Federal eRulemaking Portal. Go to http://www.regulations.gov, and follow the online instructions for submitting comments electronically.

All written comments will be open for public inspection at the office of the Food and Nutrition Service during regular business hours (8:30 a.m. to 5 p.m., Monday through Friday) at 3101 Park Center Drive, Room 640, Alexandria, Virginia 22302.

All responses to this notice will be summarized and included in the request for Office of Management and Budget approval. All comments will be a matter of public record.

FOR FURTHER INFORMATION CONTACT: Requests for additional information or copies of this information collection should be directed to Lynn Rodgers-Kuperman at 703-305-2600.

SUPPLEMENTARY INFORMATION: Title: Special Milk Program for Children.

Form Number: FNS-66B.

OMB Number: 0584-0005.

Expiration Date: May 31, 2012.

Type of Request: Revision of a currently approved collection.

The Special Milk Program for Children

Abstract: Section 3 of the Child Nutrition Act (CNA) of 1966, (42 U.S.C. 1772) authorizes the Special Milk Program (SMP). It provides for the appropriation of such sums as may be necessary to enable the Secretary of Agriculture to encourage the consumption of fluid milk by children in the United States in: (1) Nonprofit schools of high school grade and under; and (2) nonprofit nursery schools, child care centers, settlement houses, summer camps, and similar nonprofit institutions devoted to the care and training of children, which do not participate in a food service program authorized under the CNA or the National School Lunch Act.

Section 10 of the CNA (42 U.S.C. 1779) requires the Secretary of Agriculture to prescribe such regulations as deemed necessary to carry out this Act and the National School Lunch Act. Pursuant to that provision, the Secretary has issued 7 CFR part 215, which sets forth policies and procedures for the administration and operation of the SMP. State and local operators of the SMP are required to meet Federal reporting and accountability requirements. The vast majority of reporting relates to information regarding eligibility determinations of the children, the number of milk servings, and revenues received from milk sales. State and local operators are also required to maintain records regarding eligibility to operate the program, review results, and accounts of revenues and expenditures. The reporting and record keeping burden associated with this revision is decreased from 508,485 to 21,246 hours. This change is mainly due to program adjustments and the reduction in number of State agencies operating the Program.

Affected Public: State agencies, Institutions.

Number of Respondents: 5,623 (54 State Agencies, 5569 Institutions).

Number of Responses per Respondent: 1.31869.

Total Annual Responses: 7,415.

Reporting Time per Response: .87367.

Estimated Annual Reporting Burden: 6,478.

Number of Recordkeepers: 5,623 (54 State Agencies, 5,569 Institutions).

Number of Records per Recordkeepers: 13.96970.

Estimated Total Number of Records/Response to Keep: 78,552.

Recordkeeping Time per Response: .188.

Total Estimated Recordkeeping: 14,768.

Total Annual Responses for Reporting/Recordkeeping: 91,590.

Annual Recordkeeping and Reporting Burden: 21,246.

Current OMB Inventory for Part 215: 508,485.

Difference (change in burden with this renewal): (487,239).

Refer to the table below for estimated total annual burden for each type of respondent.

Affected Public | Estimated respondents | Response annually per respondent | Total annual responses | Hours per response | Estimated total burden
Reporting Burden
State agencies | 54 | 34 | 1,836 | .487 | 894
Institutions | 5,569 | 1.0018 | 5,579 | 1.0009 | 5,584
Total Estimated Reporting Burden | 5,623 | 1.31869 | 7,415 | .87367 | 6,478
Recordkeeping Burden
State agencies | 54 | 1351.53 | 72,983 | .12604 | 9,199
Institutions | 5,569 | 1 | 5,569 | 1 | 5,569
Total Estimated Recordkeeping Burden | 5,623 | 13.96970 | 78,552 | .188 | 14,768

| Estimated number of respondents | Number of responses per respondent | Total annual responses | Estimated total hours per response | Estimated total burden
Total Reporting and Recordkeeping
Reporting | 5,623 | 1.31869 | 7,415 | .87367 | 6,478
Recordkeeping | 5,623 | 13.96970 | 78,552 | .188 | 14,768
Total |  |  | *91,590 |  | 21,246
* Added total number of recordkeepers to the total annual responses.

Dated: March 16, 2012.
Jeffrey J. Tribiano,
Acting Administrator, Food and Nutrition Service.

[FR Doc. 2012-6785 Filed 3-20-12; 8:45 am]

BILLING CODE 3410-30-P